NATIONAL SCIENCE FOUNDATION

Special Emphasis Panel in Computer-Communications Research; Notice of Meeting

In accordance with the Federal Advisory Committee Act (Pub. L. 92-463, as amended), the National Science Foundation announces the following meeting:

Name: Special Emphasis Panel in Computer-Communications Research (1192).

Date/Time: March 1-2, 2001; 8:30 a.m.-6 p.m.

Place: National Science Foundation, 4201 Wilson Boulevard, Arlington, VA.

Type of Meeting: Closed.

Contact Person: John Cozzens, National Science Foundation, 4201 Wilson Boulevard, Room 1145, Arlington, VA 22230. Telephone: (703) 292-8912.

Purpose of Meeting: To provide advice and recommendations concerning proposals submitted to NSF for financial support.

Agenda: To review and evaluate proposals as a part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: February 14, 2001.
Susanne Bolton,
Committee Management Officer.

[FR Doc. 01-4165 Filed 2-20-01; 8:45 am]

BILLING CODE 7555-01-M